ENVIRONMENTAL PROTECTION AGENCY

(ER-FRL-6250-2)

Environmental Impact Statements; Notice of Availability

Responsible Agency: Office of Federal Activities, General Information (202) 564-7167 or www.epa.gov/oeca/ofa. Weekly receipt of Environmental Impact Statements Filed January 10, 2000 Through January 14, 2000 Pursuant to 40 CFR 1506.9.

EIS No. 000004, Draft Supplement, FHW, AR, TX, US 71 Highway Improvement Project, Updated Information, between Texarkana, (US71) Arkansas and DeQueen, Texarkana Northern Loop Funding, Right-of-Way Approval and COE Section 404 Permit, Little River, Miller and Sevier Counties, AR and Bowie County, TX, Due: February 28, 2000, Contact: Elizabeth Romero (501) 324-5309.

EIS No. 000005, Draft EIS, NPS, CA, Merced Wild and Scenic River Comprehensive Management Plan, Implementation, Yosemite National Park and the EL Portal Administrative Site, Tuolumne, Merced, Mono, Mariposa and Madera Counties, CA, Due: March 14, 2000, Contact: Dave Mihalic (209) 372-0261.

EIS No. 000006, Regulatory Draft EIS, FRA, Proposed Rule for the Use of Locomotive Horns at Highway-Rail Grade Crossings in the United States, Due: May 26, 2000, Contact: David Valenstein (202) 493-6383.

EIS No. 000007, Draft Supplement, IBR, NM, CO, Animas-La Plata Project (ALP Project), Municipal and Industrial Water Supply, Reservoir Construction in Ridges Basin, Implementation and Water Acquisition Funding, Additional Information concerning Project Alternatives Developed in 1996 through 1997, CO NM, Due: March 17, 2000, Contact: Mr. Pat Schumacher (970) 388-6500.

EIS No. 000008, Draft EIS, DOE, ID, Idaho High-Level Waste and Facilities Disposition, Construction and Operation, Bannock, Bingham, Bonneville, Butte, Clark, Jefferson and Madison Counties, ID, Due: March 20, 2000, Contact: Thomas L., Nichmann (208) 526-0535.

EIS No. 000009, Final EIS, BIA, CA, Programmatic-Cabazon Resource Recovery Park Section 6 General Plan, Implementation, Approval of Master Lease and NPDES Permit, Mecca, CA, Due: February 14, 2000, Contact: William Allan (916) 978-6043.

EIS No. 000010, Draft EIS, FHW, WV, WV-65 Transportation Improvement Project, from Appalachian Corridor G near Belo to US 52 at Naugatuck, Funding and COE Section 404 Permit, Mingo County, WV, Due: March 13, 2000, Contact: Thomas J. Smith (304) 347-5928.

Amended Notices

Tunas, Swordfish and Sharks, Highly Migratory Species Fishery Management Plan, Updated Information, Reduction of Bycatch and Incidental Catch in the Atlantic Pelagic Longline Fishery, Due: March 01, 2000, Contact: Rebecca J. Lent (301) 713-2347.

FR notice published on 12/30/1999: CEQ Comment Date extended from 2/14/2000 to 03/01/2000.

EIS No. 990500, Draft Supplement, UAF, FL, Homestead Air Force Base (AFB) Disposal and Reuse Updated and Additional Information on Disposal of Portions of the Former Homestead (AFB), Implementation, Dade County, FL, Due: March 07, 2000, Contact: Frank Duncan (703) 696-5243. Published-FR-01-07-00 Correction to Comment date from 02-21-2000 to 03-07-2000.

Dated: January 18, 2000.
B. Katherine Biggs,
Associate Director, NEPA Compliance Division, Office of Federal Activities.

[FR Doc. 00-1519 Filed 1-20-00; 8:45 am]

BILLING CODE 6560-50-U